DEPARTMENT OF TRANSPORTATION

Federal Railroad Administration

Petition for Waiver of Compliance

In accordance with part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Paducah & Louisville Railway, Inc.

[Docket Number FRA-2002-13309]

The Paducah & Louisville Railway, Inc (P&L), located in Paducah, KY, seeks a waiver of compliance from the requirements of the Locomotive Safety Standards, 49 CFR part 229. Section 229.27(a) of the standards requires the filtering devices located in the main reservoir supply line to the airbrake system to be cleaned, repaired, or replaced at intervals that do not exceed 368 calendar days. The P&L states that they are operating eleven (11) sets of newly refurbished GP40-3 and GP35 locomotives converted as power mates. During the most recent annual test, the main reservoir filters being replaced were identical to the new filters being applied. If the waiver is granted, P&L would change the main reservoir filters at the Biennial Test (49 CFR 229.29) required to be performed every 1,104 days on these locomotives.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2002-13309) and must be submitted to the Docket Clerk, DOT Central Docket Management Facility, Room PL-401, (Plaza Level), 400 Seventh Street SW., Washington, DC 20590-0001. Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Issued in Washington, DC on September 10, 2002.
Grady C. Cothen, Jr.,
Deputy Associate Administrator for Safety Standards and Program Development.

[FR Doc. 02-26469 Filed 10-17-02; 8:45 am]

BILLING CODE 4910-06-P